DEPARTMENT OF HOMELAND SECURITY

Office for Civil Rights and Civil Liberties; DHS Individual Complaint of Employment Discrimination

AGENCY: Office for Civil Rights and Civil Liberties, DHS.

ACTION: 30-Day Notice and request for comments; Extension of an existing information collection 1610-0001, DHS Form 3090-1.

SUMMARY: The Department of Homeland Security, Office for Civil Rights and Civil Liberties, submits this extension for the following information collection request (ICR) to the Office of Management and Budget (OMB) for review and clearance in accordance with the Paperwork Reduction Act of 1995 (Pub. L. 104-13, 44 U.S.C. Chapter 35). The Office for Civil Rights and Civil Liberties is soliciting comments concerning an extension to an existing information collection, DHS Individual Complaint of Employment Discrimination Form, DHS 3090-1. DHS previously published this information collection request (ICR) in the Federal Register on January 22, 2008 at 73 FR 3738, for a 60-day public comment period. No comments were received by DHS. The purpose of this notice is to allow an additional 30-days for public comments.

DATES: Comments are encouraged and will be accepted until May 19, 2008. This process is conducted in accordance with 5 CFR 1320.10.

ADDRESSES: Interested persons are invited to submit written comments on the proposed information collection to the Office of Information and Regulatory Affairs, Office of Management and Budget. Comments should be addressed to Nathan Lesser, Desk Officer, Department of Homeland Security, Office of Civil Rights and Civil Liberties, and sent via electronic mail to oira_submission@omb.eop.gov or faxed to (202) 395-6974.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: the Department of Homeland Security (DHS), Office for Civil Rights and Civil Liberties, Mail Stop 0800, 245 Murray Lane, SW., Bldg 110, Washington, DC 20528, (202) 401-1474, (202) 401-0470 (TTY).

SUPPLEMENTARY INFORMATION: This form will allow a complainant to submit required information used by the Department to process an employment discrimination complaint with the Department of Homeland Security. The information contained in this form will allow the Department to accept, investigate and further process, or to dismiss issues.

Analysis

Agency: Department of Homeland Security, Office for Civil Rights and Civil Liberties.

Title: DHS Individual Complaint of Employment Discrimination Form.

OMB Number: 1610-0001.

Frequency: On occasion.

Affected Public: Federal Government and Individuals or Households. Information collection is necessary for DHS CRCL to identify problem areas, propose changes, and assist individuals experiencing problems during the filing of a formal EEO complaint with DHS.

Number of Respondents: 1200 respondents.

Estimated Time per Respondent: 30 minutes per response.

Total Burden Hours: 600 annual burden hours.

Total Burden Cost (capital/startup): None.

Total Burden Cost (operating/maintaining): None.

Dated: April 9, 2008.
Charles Armstrong,
Acting, Chief Information Officer.

[FR Doc. E8-8476 Filed 4-17-08; 8:45 am]

BILLING CODE 4410-10-P